DEPARTMENT OF TRANSPORTATION

Surface Transportation Board

[STB Finance Docket No. 35314]

Massachusetts Coastal Railroad, LLC—Acquisition—CSXT Transportation, Inc.

A decision was served in this proceeding on December 21, 2009, and was published in the Federal Register on December 23, 2009. Appendix A to the decision set forth the procedural schedule for this proceeding. The eighth date listed in Appendix A (referring to Responses to comments, etc.) inadvertently referenced “March 13, 2010.” The correct date is February 12, 2010.

Please correct your copies of the decision accordingly. All other information remains unchanged. A corrected copy of Appendix A follows this notice.

Board decisions and notices are available on our Web site at http://www.stb.dot.gov.

Decided: December 23, 2009.
By the Board, Rachel D. Campbell, Director, Office of Proceedings.
Jeffrey Herzig,
Clearance Clerk.

Appendix A: Procedural Schedule
November 24, 2009 | Application, Motion for Protective Order, and Petition Suggesting Procedural Schedule filed.
December 8, 2009 | Protective Order Issued.
December 23, 2009 | Board notice of acceptance of application published in the Federal Register.
January 6, 2010 | Notices of intent to participate in this proceeding due.
January 11, 2010 | Discovery requests due to Applicants.
January 18, 2010 | Responses to discovery due.
January 25, 2010 | All comments, protests, requests for conditions, and any other evidence and argument in opposition to the application, including filings of DOJ and DOT, due.
February 12, 2010 | Responses to comments, protests, requests for conditions, and other opposition due. Applicants' rebuttal in support of the application due.
TBD | A public hearing or oral argument may be held.
March 29, 2010 | Final decision to be served.
April 28, 2010 | Final decision to become effective.

[FR Doc. E9-30830 Filed 12-28-09; 8:45 am]

BILLING CODE 4915-01-P